DEPARTMENT OF TRANSPORTATION

Surface Transportation Board

[STB Ex Parte No. 558 (Sub-No. 12)]

Railroad Cost of Capital—2008

AGENCY: Surface Transportation Board, DOT.

ACTION: Notice of decision instituting a proceeding to determine the railroads' 2008 cost of capital.

SUMMARY: The Board is instituting a proceeding to determine the railroad industry's cost of capital for 2008. The decision solicits comments on: (1) The railroads' 2008 current cost of debt capital; (2) the railroads' 2008 current cost of preferred stock equity capital (if any); (3) the railroads' 2008 cost of common stock equity capital; and (4) the 2008 capital structure mix of the railroad industry on a market value basis. Comments should focus on the various cost of capital components listed above using the same methodology followed in the Cost 07 decision, with the exception of applying the Ex Parte No. 664 (Sub No. 1) decision in calculating the cost-of-equity.

DATES: Notices of intent to participate are due no later than March 20, 2009. Statements of the railroads are due by April 20, 2009. Statements of other interested persons are due by May 20, 2009. Rebuttal statements by the railroads are due by June 19, 2009.

ADDRESSES: Comments may be submitted either via the Board's e-filing format or in the traditional paper format. Any person using e-filing should submit a document and otherwise comply with the instructions at the E-FILING link on the Board's Web site, at http://www.stb.dot.gov. Any person submitting a filing in the traditional paper format should send an original and 10 copies to: Surface Transportation Board, Attn: STB Ex Parte No. 558 (Sub No. 12), 395 E Street, SW., Washington, DC 20423-0001.

FOR FURTHER INFORMATION CONTACT: Pedro Ramirez (202) 245-0333. [Assistance for the hearing impaired is available through the Federal Information Relay Service (FIRS) at 1-800-877-8339.]

SUPPLEMENTARY INFORMATION: The Board's decision is posted on the Board's Web site, http://www.stb.dot.gov. In addition, copies of the decision may be purchased by contacting the office of Public Assistance, Governmental Affairs, and Compliance at (202)-245-0235. Assistance for the hearing impaired is available through FIRS at 1-800-877-8339.

We preliminarily conclude that the proposed action will not significantly affect either the quality of the human environment or the conservation of energy resources.

Authority: 49 U.S.C. 10704(a).

Decided: March 5, 2009.
By the Board, Chairman Nottingham, Vice Chairman Mulvey, and Commissioner Buttrey.
Kulunie L. Cannon,
Clearance Clerk.

[FR Doc. E9-5138 Filed 3-10-09; 8:45 am]

BILLING CODE 4915-01-P